DEPARTMENT OF TRANSPORTATION

Federal Railroad Administration

[Docket No. FRA-2023-0002-N-4]

Proposed Agency Information Collection Activities; Comment Request

AGENCY: Federal Railroad Administration (FRA), Department of Transportation (DOT).

ACTION: Notice of information collection; request for comment.

SUMMARY: Under the Paperwork Reduction Act of 1995 (PRA) and its implementing regulations, FRA seeks approval of the Information Collection Request (ICR) abstracted below. Before submitting this ICR to the Office of Management and Budget (OMB) for approval, FRA is soliciting public comment on specific aspects of the activities identified in the ICR.

DATES: Interested persons are invited to submit comments on or before May 23, 2023.

ADDRESSES: Written comments and recommendations for the proposed ICR should be submitted on regulations.gov to the docket, Docket No. FRA-2023-0002. All comments received will be posted without change to the docket, including any personal information provided. Please refer to the assigned OMB control number (2130-0610) in any correspondence submitted. FRA will summarize comments received in response to this notice in a subsequent notice and include them in its information collection submission to OMB for approval.

FOR FURTHER INFORMATION CONTACT: Ms. Arlette Mussington, Information Collection Clearance Officer, at email: arlette.mussington@dot.gov or telephone: (571) 609-1285, or Ms. Joanne Swafford, Information Collection Clearance Officer, at email: joanne.swafford@dot.gov or telephone: (757) 897-9908.

SUPPLEMENTARY INFORMATION: The PRA, 44 U.S.C. 3501-3520, and its implementing regulations, 5 CFR part 1320, require Federal agencies to provide 60-days' notice to the public to allow comment on information collection activities before seeking OMB approval of the activities. See 44 U.S.C. 3506, 3507; 5 CFR 1320.8 through 1320.12. Specifically, FRA invites interested parties to comment on the following ICR regarding: (1) whether the information collection activities are necessary for FRA to properly execute its functions, including whether the activities will have practical utility; (2) the accuracy of FRA's estimates of the burden of the information collection activities, including the validity of the methodology and assumptions used to determine the estimates; (3) ways for FRA to enhance the quality, utility, and clarity of the information being collected; and (4) ways for FRA to minimize the burden of information collection activities on the public, including the use of automated collection techniques or other forms of information technology. See 44 U.S.C. 3506(c)(2)(A); 5 CFR 1320.8(d)(1).

FRA believes that soliciting public comment may reduce the administrative and paperwork burdens associated with the collection of information that Federal regulations mandate. In summary, FRA reasons that comments received will advance three objectives: (1) reduce reporting burdens; (2) organize information collection requirements in a “user-friendly” format to improve the use of such information; and (3) accurately assess the resources expended to retrieve and produce information requested. See 44 U.S.C. 3501.

The summary below describes the ICR that FRA will submit for OMB clearance as the PRA requires:

Title: Risk Reduction Program.

OMB Control Number: 2130-0610.

Abstract: In 2020, FRA issued a final rule ¹ that requires each Class I freight railroad and each freight railroad with inadequate safety performance (ISP) to develop and implement a Risk Reduction Program (RRP) to improve the safety of its operations. RRP is a comprehensive, system-oriented approach to safety that determines a railroad operation's level of risk by identifying and analyzing applicable hazards, and develops plans to mitigate, if not eliminate, that risk. Each railroad has flexibility to tailor an RRP to its specific railroad operations. Each railroad must implement its RRP under a written, FRA-approved RRP plan and conduct an annual internal assessment of its RRP, with FRA also auditing railroads' RRPs.

¹ 85 FR 9262 (Feb. 18, 2020).

The information collected under this regulation will be used by railroads, and FRA, to improve safety through structured, proactive processes that systematically evaluate railroad safety hazards on their systems and manage the risks associated with those hazards to help reduce the number and rates of railroad accidents/incidents, injuries, and fatalities.

In this 60-day notice, FRA has made multiple adjustments to its estimated paperwork burden, resulting in a reduction of 1,131 hours, from 61,825 hours in the current inventory to 60,694 hours in the requested inventory. The primary reason for the reduction in the estimated paperwork burden is the expected decrease in the number of responses. Specifically, all Class I freight railroads have already submitted their RRP plans, leading to a decrease in the overall PRA burden, resulting in no anticipated submissions under certain regulatory sections. This reduction in Class I submissions, reduced by 1,075 hours, significantly contributed to the overall decrease in the estimated paperwork burden hours in the requested inventory. FRA has uploaded a table on regulations.gov, under Docket No. FRA-2023-0002 which displays all the burden adjustments.

Type of Request: Extension without change (with changes in estimates) of a currently approved collection.

Affected Public: Businesses.

Form(s): N/A.

Respondent Universe: 7 Class I and 15 ISP railroads.

Frequency of Submission: On occasion.

² The dollar equivalent cost is derived from the 2021 Surface Transportation Board Full Year Wage A&B data series using the appropriate employee group hourly wage rate that includes a 75-percent overhead charge.

Reporting Burden:

CFR section | Respondent universe | Total annual responses | Average time per response | Total annual burden hours | Total cost equivalent in U.S. dollar
|  | (A) | (B) | (C = A * B) | (D = C * wage rates) ²
271.13(c)—Determination of inadequate safety performance (ISP)—Qualitative assessment—Notice to employees of possible ISP identification by FRA | 15 railroads | 5.00 notices | 3 hours | 15.00 | $1,168.65
—Employee confidential comments to FRA regarding RR possible ISP identification | 125 employees | 5.00 comments | 30 minutes | 2.50 | 194.78
—RR Documentation to FRA refuting possible ISP identification | 15 railroads | 5.00 documents | 8 hours | 40.00 | 3,116.40
—(f) and (g) Petition for reconsideration of ISP determination and petition to discontinue compliance with this part | 15 railroads | .67 petition | 16 hours | 10.72 | 835.20
271.101—Risk Reduction Programs (RRPs)—Class I railroads | The estimated paperwork burden for this regulatory requirement is covered under §§ 271.103, 271.105, 271.107, 271.109, and 271.111.
271.103—RRP hazard management program (HMP) | 7 railroads | 2.33 HMP analyses | 3,360 hours | 7,838.80 | 609,941.81
271.105—RRP safety performance evaluation (SPE): surveys/evaluations | 7 railroads | 2.33 SPE evaluations | 147 hours | 342.51 | 26,684.95
| 7 railroads | 2.33 assessments | 1,060.15 hours | 2,470.15 | 192,449.39
271.107—Safety Outreach—communications/reports | 7 railroads | 44,333.00 communications | 1 hour | 44,333.00 | 2,636,040.18
| 7 railroads | 28.00 communications | 30 minutes | 14.00 | 1,090.74
271.109—Technology analysis and technology implementation plans | 7 railroads | 2.33 reports | 10 hours | 23.30 | 1,815.30
271.111—RRP implementation training—programs/training, employees/records | 7 railroads | 1,400.00 records of trained employees | 3 minutes | 70.00 | 5,453.70
271.113—Involvement of RR employees | The estimated paperwork burden for this regulatory requirement is covered under §§ 271.401 and 271.405.
271.101(c)—Communication by Class I RRs that host passenger train services with RRs subject to FRA System Safety Program Requirements | 7 railroads | 40.00 communications/consultations | 2 hours | 80.00 | 6,232.80
—(d) Identification/communication w/entities performing/utilizing significant safety-related services—Class I RRs | 7 railroads | 212.00 communications/consultations | 1 hour | 212.00 | 16,516.92
—RR Identification/further communication with contractors performing/utilizing significant safety related services—Class I RRs | 7 railroads | 1,488.00 communications/consultations | 1 hour | 1,488.00 | 115,930.08
271.101(a)—Risk Reduction Programs (RRPs)—ISP railroads | The estimated paperwork burden for this regulatory requirement is covered under §§ 271.103, 271.105, 271.107, 271.109, and 271.111.
271.103—RRP hazard management program (HMP) | 15 railroads | 5.00 HMPs | 240 hours | 1,200.00 | 93,492.00
271.105—RRP safety performance evaluation (SPE): surveys/evaluations | 15 railroads | 5.00 surveys | 14.73 hours | 73.65 | 5,738.07
| 15 railroads | 5.00 SPEs | 51.11 hours | 255.55 | 19,909.90
271.107—Safety Outreach—communications/reports | 15 railroads | 5.00 communications | 1 hour | 5.00 | 297.30
| 15 railroads | 5.00 reports | 3 hours | 15.00 | 1,168.65
271.109—Technology analysis and technology implementation plans | 15 railroads | 5.00 plans | 5 hours | 25.00 | 1,947.75
271.111—RRP implementation training—Records (Note: The associated burdens related to training were appropriately calculated as economic costs of the regulatory requirement.) | 15 railroads | 50.00 records of trained employees | 3 minutes | 2.50 | 194.78
271.113—Involvement of RR employees | The estimated paperwork burden for this regulatory requirement is covered under subparts B and E of part 271.
271.101(d)—ISPs—Identification/communication w/entities performing significant safety-related services | 15 railroads | 5.00 communications/consultations | 2 hours | 10.00 | 779.10
271.201/203—Written risk reduction program plans (RRP plans)—Adoption and implementation of RRP plans—Class I | The PRA burden associated with this requirement has been completed.
—Written RRP plans—ISP RRs | 15 railroads | 5.00 RRP plans | 96 hours | 480.00 | 37,396.80
271.207—RR Good faith consultation w/directly affected employees—Class I RRs | The PRA burden associated with this requirement has been completed.
—RR Notification to non-represented employees of consultation meeting—Class I RRs | The PRA burden associated with this requirement has been completed.
—RR Good faith consultations/notices: ISP RRs | 15 railroads | 5.00 consults/notices | 20 hours | 100.00 | 7,791.00
—Submission of detailed consultation statements along w/RRP plans by Class I RRs | The PRA burden associated with this requirement has been completed.
—Submission of detailed consultation statements along w/RRP plan by ISPs | 15 railroads | 5.00 consults/statements | 40 hours | 200.00 | 15,582.00
—Copy of RRP plan—Class I RRs + ISP RRs | The PRA burden associated with this requirement has been completed.
—Consultation Statement to Service List Individuals—Class I RRs + ISP RRs | The PRA burden associated with this requirement has been completed.
—Statements from directly affected employees—Class I RRs | The PRA burden associated with this requirement has been completed.
—Statements from directly affected employees—ISP RRs | 15 railroads | 12.00 statements | 1 hour | 12.00 | 934.92
271.209—Substantive amendments to RRP plan—Class I RRs | 7 railroads | 1.00 amended written plan | 8 hours | 8.00 | 623.28
—Substantive amendments to RRP plan—ISP RRs | 15 railroads | .67 amended written plan | 8 hours | 5.36 | 417.60
271.301—Filing of RRP plan w/FRA—Class I RRs | The PRA burden associated with this requirement has been completed.
—Filing of RRP plan w/FRA—ISP RRs | 15 railroads | 5.00 filed plans | 2 hours | 10.00 | 779.10
—Class I RR corrected RRP plan | The PRA burden associated with this requirement has been completed.
—FRA requested Class I RR consultation with directly affected employees regarding substantive corrections/changes to RRP plan | The PRA burden associated with this requirement has been completed.
—ISP RR corrected RRP plan | 15 railroads | 1.00 RRP plan | 2 hours | 2.00 | 155.82
—FRA requested ISP RR further consultation with directly affected employees regarding substantive amendment to RRP plan | 15 railroads | 1.00 consult/statement | 1 hour | 1.00 | 77.91
271.303—Amendments consultation w/directly affected employees on substantive amendments to RRP plan—Class I RRs and ISP RRs | 22 railroads (Class I + ISP) | 2.00 consults | 1 hour | 2.00 | 155.82
—Employee statement to FRA on RR RRP plan substantive amendments where agreement could not be reached | 22 railroads (Class I + ISP) | 2.00 employee statements | 30 minutes | 1.00 | 77.91
—Filed amended RRP plan—Class I RRs | 7 railroads | 1.00 plan | 30 minutes | .50 | 38.96
—Filed amended RRP plan—ISP RRs | 15 railroads | .67 plan | 30 minutes | .34 | 26.49
—Amended RRP plan disapproved by FRA & requested correction—Class I RRs and ISPs | 22 railroads (Class I + ISP) | 1.00 corrected RRP plan | 2 hours | 2.00 | 155.82
271.307—Retention of RRP plans—Copies of RRP plan/amendments by RR at system/division headquarters—Class I and ISP RRs | 22 railroads (Class I + ISP) | 2.00 plan copies | 10 minutes | .33 | 25.71
217.401/403—Annual internal assessment/improvement plans—Class I RRs | 7 railroads | 7.00 assessments/improvement plans | 120 hours | 840.00 | 65,444.40
—Annual internal assessment/improvement plans—ISP RRs | 22 railroads | 5.00 assessments/improvement plans | 32 hours | 160.00 | 12,465.60
271.405—Internal assessment report copy to FRA—Class I RRs | 7 railroads | 7.00 reports | 8 hours | 56.00 | 4,362.96
—Internal assessment submit copy to FRA within 60 days of completion—ISP RRs | 22 railroads | 5.00 reports | 2 hours | 10.00 | 779.10
271.501/.503—External audits—Response to FRA's written notice (Note: The associated burdens related to audit were appropriately calculated as economic costs of the regulatory requirement.) | 22 railroads | 7.33 responses | 4 hours | 29.32 | 2,284.32
Appendix A—Request by FRA for additional information/documents to determine whether railroad has met good faith and best effort consultation requirements of section 271.207 | The PRA burden associated with this requirement has been completed.
—Further railroad consultation w/employees after determination by FRA that railroad did not use good faith/best efforts | The PRA burden associated with this requirement has been completed.
—Meeting to discuss administrative details of consultation processes during the time between initial meeting and applicability date—Class I RRs | The PRA burden associated with this requirement has been completed.
—Meeting to discuss administrative details of consultation processes during the time between initial meeting and applicability date—ISP RRs | 15 railroads | 7.00 meetings/consults | 1 hour | 7.00 | 545.37
—Notification to non-represented employees of good faith consultation process—ISP RRs | 15 railroads | 600.00 notices | 15 minutes | 150.00 | 11,686.50
—Draft RRP plan proposal to employees—ISP RRs | 15 railroads | 20.00 proposals/copies | 2 hours | 40.00 | 3,116.40
—Employee comments on RRP plan draft proposal | 2,000 employees | 60.00 comments | 1 hour | 60.00 | 4,674.60
Subpart G—Fatigue Risk Management Programs | The estimated paperwork burden for this regulatory requirement is covered under OMB Control Number 2130-0633.
Appendix B—Request to FRA for electronic submission or FRA review of written materials | FRA anticipates zero railroad submissions during this 3-year ICR period.
Totals ³ | 22 railroads | 48,374 responses | N/A | 60,694 | 3,910,597

Total Estimated Annual Responses: 48,374.

³ Totals may not add due to rounding.

Total Estimated Annual Burden: 60,694 hours.

Total Estimated Annual Burden Hour Dollar Cost Equivalent: $3,910,597.

FRA informs all interested parties that it may not conduct or sponsor, and a respondent is not required to respond to, a collection of information that does not display a currently valid OMB control number.

(Authority: 44 U.S.C. 3501-3520)

Brett A. Jortland,
Deputy Chief Counsel.

[FR Doc. 2023-06084 Filed 3-23-23; 8:45 am]

BILLING CODE 4910-06-P